DEPARTMENT OF VETERANS AFFAIRS

[OMB Control No. 2900-0205]

Agency Information Collection Activity Under OMB Review: Application for Health Professions Trainees

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before August 19, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0205” in any correspondence.

FOR FURTHER INFORMATION CONTACT: Danny S. Green, Office of Quality, Performance and Risk (OQPR), Department of Veterans Affairs, 810 Vermont Avenue NW, Washington, DC 20420, (202) 421-1354 or email danny.green2@va.gov. Please refer to “OMB Control No. 2900-0205” in any correspondence.

SUPPLEMENTARY INFORMATION:

Authority: 44 U.S.C. 3501-21.

Title: Application for Health Professions Trainees, VA Form 10-2850D.

OMB Control Number: 2900-0205.

Type of Review: Extension of an approved collection.

Abstract: VA Form 10-2850D, Application for Health Professions Trainees, is part of a previously approved collection of forms under OMB control number 2900-0205. VA Form 10-2850D is designed specifically to elicit appropriate information about qualifications for each trainee participating in accredited educational programs with the Department of Veterans Affairs (VA). The 10-2850D form is used by all health professions trainees, including physician and dentist residents.

The collection of this information is authorized by 38 U.S.C. 7403 (Veterans' Benefits), which provides that appointments of Title 38 employees will be made only after qualifications have been satisfactorily verified in accordance with regulations prescribed by the Secretary. Occupations listed in 38 U.S.C. 7401(1) and 7401(3) (Appointments in Veterans Health Administration) are appointed at a grade and step rate, or an assignment, based on careful evaluation of their education and experience.

The Veterans Health Administration (VHA) conducts education and training programs through partnerships with affiliated academic institutions and through VHA's own sponsored programs. Qualified health care professionals with appropriate credentials and privileges supervise trainees. 38 U.S.C. 7302 (Functions of Veterans Health Administration: health-care personnel education and training programs) mandates that VHA assist in the training of health professionals for its own needs and for those of the nation.

The VA Form 10-2850D application will collect information from health professions trainees prior to VA appointment. All health professions trainees must provide information concerning their background, training, education, degrees, licensure, registrations, and other vital information to ensure appropriate qualifications for VA assignment.

An agency may not conduct or sponsor, and a person is not required to respond to, a collection of information unless it displays a currently valid OMB control number. The Federal Register Notice with a 60-day comment period soliciting comments on this collection of information was published at 84 FR 19830 on May 6, 2019, pages 19830 and 19831.

Affected Public: Individuals or Households.

Estimated Annual Burden: 60,500 hours.

Estimated Average Burden per Respondent: 30 minutes.

Frequency of Response: Annually.

Estimated Number of Respondents: 121,000.

By direction of the Secretary.
Danny S. Green,
Interim VA Clearance Officer, Office of Quality, Performance and Risk (OQPR), Department of Veterans Affairs.

[FR Doc. 2019-15241 Filed 7-17-19; 8:45 am]

BILLING CODE 8320-01-P